DEPARTMENT OF TRANSPORTATION

Federal Railroad Administration

49 CFR Part 246

[Docket No. FRA-2022-0020, Notice No. 3]

RIN 2130-AC92

Certification of Signal Employees

AGENCY: Federal Railroad Administration (FRA), Department of Transportation (DOT).

ACTION: Notice of proposed rulemaking (NPRM); extension of comment period.

SUMMARY: On May 31, 2023, FRA published an NPRM proposing to require railroads to develop written programs for certifying signal employees and to submit those written certification programs to FRA for approval prior to implementation. On July 5, 2023, FRA published a notice extending the comment period by 30 days. By this notice, FRA is extending the NPRM's comment period by an additional 15 days.

DATES: The comment period for the NPRM, scheduled to close on August 30, 2023, is extended until September 14, 2023.

ADDRESSES:

Comments: Comments related to Docket No. FRA-2022-0020, Notice No. 1, may be submitted by going to https://www.regulations.gov and following the online instructions for submitting comments.

Instructions: All submissions must include the agency name, docket name, and docket number or Regulatory Identification Number (RIN) for this rulemaking (2130-AC92). Note that all comments received will be posted without change to https://www.regulations.gov, including any personal information provided. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Gabe Neal, Staff Director, Signal, Train Control, and Crossings Division, telephone: (816) 516-7168 or email: Gabe.Neal@dot.gov; or Kathryn Gresham, Attorney Adviser, Office of the Chief Counsel, telephone: (202) 577-7142 or email: Kathryn.Gresham@dot.gov.

SUPPLEMENTARY INFORMATION: On July 28, 2023, FRA provided information in the rulemaking docket about the accidents that were analyzed by FRA in the regulatory impact analysis.¹ In an August 5, 2023, petition, the American Short Line and Regional Railroad Association (ASLRRA) requested a 30-day extension of the NPRM's ² comment period to analyze the information and its impact on ASLRRA's member railroads.

¹ https://www.regulations.gov/document/FRA-2022-0020-0010.

² 88 FR 35632 (May 31, 2023).

The comment period for this NPRM is scheduled to close on August 30, 2023.³ As FRA is partially granting ASLRRA's request, the comment period is now extended 15 days to September 14, 2023.

³ 88 FR 42907 (July 5, 2023).

Privacy Act

In accordance with 5 U.S.C. 553(c), DOT solicits comments from the public to better inform its rulemaking process. DOT posts these comments, without edit, to https://www.regulations.gov, as described in the system of records notice, DOT/ALL-14 FDMS, accessible through www.dot.gov/privacy. To facilitate comment tracking and response, we encourage commenters to provide their name, or the name of their organization; however, submission of names is completely optional. Whether or not commenters identify themselves, all timely comments will be fully considered. If you wish to provide comments containing proprietary or confidential information, please contact the agency for alternate submission instructions.

Authority: 49 U.S.C. 20103, 20107, 20162, 21301, 21304, 21311; 28 U.S.C. 2461 note; 49 CFR 1.89; and Pub. L. 110-432, sec. 402, 122 Stat. 4884.

Issued in Washington, DC.
John Karl Alexy,
Associate Administrator for Railroad Safety Chief Safety Officer.

[FR Doc. 2023-18034 Filed 8-21-23; 8:45 am]

BILLING CODE 4910-06-P